DEPARTMENT OF ENERGY

Federal Energy Regulatory Commission

[Project No. 13164-000]

Bangor Water District; Notice of Conduit Exemption Application Accepted for Filing and Soliciting Comments, Motions To Intervene, and Competing Applications

October 30, 2008.

On April 11, 2008, Bangor Water District filed an application, pursuant to 16 U.S.C. 791a-825r of the Federal Power Act, for conduit exemption of the Veazie Energy Recovery Project, to be located on the water supply pipeline in Penobscot County, Maine.

The proposed Veazie Energy Recovery Project consists of: (1) A proposed powerhouse containing one generating unit having an installed capacity of 75 kilowatts, and (2) appurtenant facilities. Bangor Water District estimates the project would have an average annual generation of 590 megawatt-hours, which would be sold to a local utility.

Applicant Contact: Mrs. Kathy Moriarity, General Manager, Bangor Water District, P.O. Box 1129, Bangor, ME 04402-1129, phone (207) 947-4516.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13203) in the docket number field to access the document. For assistance, call toll-free 1-866-208-3372.

Kimberly D. Bose,
Secretary.

[FR Doc. E8-26452 Filed 11-5-08; 8:45 am]

BILLING CODE 6717-01-P